DEPARTMENT OF THE TREASURY

Bureau of Engraving and Printing

Privacy Act of 1974, as Amended; System of Records

AGENCY: Bureau of Engraving and Printing, Treasury.

ACTION: Notice of systems of records.

SUMMARY: In accordance with the requirements of the Privacy Act of 1974, as amended, 5 U.S.C. 552a, the Bureau of Engraving and Printing is publishing its inventory of Privacy Act systems of records.

SUPPLEMENTARY INFORMATION: Pursuant to the Privacy Act of 1974, as amended, 5 U.S.C. 552a, and the Office of Management and Budget Circular No. A-130, the Bureau of Engraving and Printing (BEP) has completed a review of its Privacy Act system of records notices to identify minor changes that will more accurately describe these records. The changes throughout the document are editorial in nature and consist primarily of corrections to citations, updates to addresses, and clarifications to the storage, retrievability, safeguards, retention and disposal and individuals or records covered.

One new system of records has been published in the BEP inventory of Privacy Act notices. That system is identified below:

Treasury/BEP .048 Electronic Police Operations Command Reporting System (EPOCRS)—Treasury/BEP (Published August 25, 2010, at 75 F.R. 52394)

The following three systems of records maintained by the BEP were amended:

1. Treasury/BEP .006. Debt Files (Employees)—Treasury/BEP (Published December 30, 2009, at 74 F.R. 69190).

2. Treasury/BEP .027. Access Control and Alarm Monitoring Systems (ACAMS)—Treasury/BEP (Published January 5, 2012, at 77 F.R. 551).

3. Treasury/BEP .021. Investigative Files—Treasury/BEP (Published January 6, 2012, at 77 F.R. 837).

Systems Covered by This Notice

This notice covers all systems of records adopted by the Bureau of Engraving and Printing up to August 25, 2010. The systems notices are reprinted in their entirety following the Table of Contents.

Dated: April 9, 2013.
Veronica Marco,
Acting Deputy Assistant Secretary for Privacy, Transparency, and Records.

Bureau of Engraving and Printing (BEP)

Table of Contents

BEP .002—Personal Property Claim File

BEP .004—Counseling Records

BEP .005—Compensation Claims

BEP .006—Debt Files of Employees

BEP .014—Employee's Production Record

BEP .016—Employee Suggestions

BEP .020—Industrial Truck Licensing Records

BEP .021—Investigative Files

BEP .027—Access Control and Alarm Monitoring Systems (ACAMS)

BEP .035—Tort Claims against the United States of America

BEP .038—Unscheduled Absence Record

BEP .041—Record of Discrimination Complaints

BEP .045—Mail Order Sales Customer Files

BEP .046—Automated Mutilated Currency Tracking System

BEP .047—Employee Emergency Notification System

BEP .048—Electronic Police Operations Command Reporting System (EPOCRS)

TREASURY/BEP .002

System name:

Personal Property Claim File—Treasury/BEP

System location:

Office of the Chief Counsel, Bureau of Engraving and Printing, Eastern Currency Facility, 14th & C Streets SW., Washington, DC 20228 and Office of the Chief Counsel, Bureau of Engraving and Printing, Western Currency Facility, 9000 Blue Mound Road, Fort Worth, TX 76131.

Categories of individuals covered by the system:

Civilian officers, employees, and former employees of the Bureau of Engraving and Printing, and their survivors having claims for damage to or loss of personal property incident to their service.

Categories of records in the system:

Contains investigative and adjudication documents relative to personal property damage claims.

Authority for maintenance of the system:

Military Personnel and Civilian Employees' Claims Act of 1964, 31 U.S.C. 3721, as amended.

Purpose(s):

The purpose of this system is to permit the Bureau of Engraving and Printing to more effectively and efficiently process and manage claims, and to provide statistics that allow us to focus our resources in order to continually improve the safety of our workforce, work environment, and equipment.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2, which relate to an agency's functions relating to civil and criminal proceedings;

(6) Provide information to unions recognized as exclusive bargaining representatives under the Civil Service Reform Act of 1978, 5 U.S.C. 7111, 7114;

(7) Provide information to third parties during the course of an investigation to the extent necessary to obtain information pertinent to the investigation; and

(8) Provide information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name.

Safeguards:

Records in this system are safeguarded in accordance with applicable rules and policies, including all applicable Treasury automated systems security and access policies. Strict controls have been imposed to minimize the risk of compromising the stored information. Access to the electronic and paper record system is limited to the staff of the Office of the Chief Counsel who have a need to know the information for the performance of their official duties and who have appropriate clearances or permissions.

Retention and disposal:

In accordance with the National Archives and Records Administration (NARA), General Records Schedule No. 18, records are destroyed when two (2) years old.

System Manager(s) and Address:

Chief Counsel, Office of the Chief Counsel, Bureau of Engraving and Printing, Eastern Currency Facility, 14th and C Streets SW., Washington, DC 20228 and Manager, Office of the Chief Counsel, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F, to Disclosure Officer, Bureau of Engraving and Printing, Eastern Currency Facility, 14th & C Streets SW., Washington, DC 20228.

Record access procedures:

See “Notification Procedure” above.

Contesting record procedures:

See “Notification procedure” above.

Record source categories:

Individuals having claim for damage to or loss of personal property.

Exemptions claimed for the system:

None.

TREASURY/BEP .004

System name:

Counseling Records—Treasury/BEP.

System location:

Office of Equal Opportunity and Diversity Management, Bureau of Engraving and Printing, Eastern Currency Facility, 14th & C Streets SW., Washington, DC 20228 and Bureau of Engraving and Printing, Western Currency Facility, 9000 Blue Mound Road, Fort Worth, TX 76131.

Categories of individuals covered by the system:

Employees or former employees of the Bureau of Engraving and Printing who have received counseling.

Categories of records in the system:

Contains correspondence relative to counseling information and follow-up reports.

Authority for maintenance of the system:

5 U.S.C. 301.

Purpose(s):

To provide a history and record of the employee counseling session.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains, contingent upon that individual signing a release of information form;

(5) Provide information to the news media in accordance with guidelines contained in 28 CFR 50.2, which relate to an agency's functions relating to civil and criminal proceedings;

(6) Provide general educational information to unions recognized as exclusive bargaining representatives under the Civil Service Reform Act of 1978, 5 U.S.C. 7111, 7114;

(7) Provide information to third parties during the course of an investigation to the extent necessary to obtain information pertinent to the investigation; and

(8) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

The records are stored on file folders, magnetic discs, tapes, or electronic media.

Retrievability:

Records may be retrieved by name.

Safeguards:

Records in this system are safeguarded in accordance with applicable rules and policies, including all applicable Treasury automated systems security and access policies. Strict controls have been imposed to minimize the risk of compromising the information that is being stored. Access to the electronic and paper record system is limited to the individuals in the Office of Equal Opportunity and Diversity Management, who have a need to know the information for the performance of their official duties and who have appropriate clearances or permissions. The Office of Human Resources, Employee & Labor Management Relations Division will have access the electronic and paper record system in the event of disciplinary action.

Retention and disposal:

In accordance with National Archives and Records Administration (NARA), General Records Schedule No. 1, records are destroyed three (3) years after termination of counseling.

System manager(s) and address:

Chief, Office of Equal Opportunity and Diversity Management, Bureau of Engraving and Printing, Eastern Currency Facility, 14th & C Streets SW., Washington, DC 20228.

Notification procedure:

Individuals wishing to be notified if they are named in this system of records, gain access to the records, or contest the contents of any records maintained in this system may submit inquiries in accordance with instructions appearing in 31 CFR part 1, subpart C, appendix F, to Disclosure Officer, Bureau of Engraving and Printing, Eastern Currency Facility, 14th & C Streets SW., Washington, DC 20228.

Record access procedure:

See “Notification Procedure” above.

Contesting record procedures:

See “Notification Procedure” above.

Record source categories:

Employee.

Exemptions claimed for the system:

None.

TREASURY/BEP .005

System names:

Compensation Claims—Treasury/BEP.

System location:

Office of Human Resources, Bureau of Engraving and Printing, Eastern Currency Facility, 14th & C Streets SW., Washington, DC 20228 and Human Resources Management Division, Bureau of Engraving and Printing, Western Currency Facility, 9000 Blue Mound Road, Fort Worth, TX 76131.

Categories of individuals covered by the system:

Bureau of Engraving and Printing employees and former employees who file claims for work-connected injuries or illnesses under the Federal Employee Compensation Act for medical expenses, lost wages, leave buy-back, and scheduled awards continuation of pay or disability.

Categories of records in the system:

All pertinent documentation, including investigative reports, medical reports, forms, letters, Department of Labor Office of Workers' Compensation (DOL-OWCP) letters, relative to work-connected injuries or illnesses of employees.

Authority for maintenance of the system:

Federal Employees Compensation Act, as amended, 5 U.S.C. 8101 et seq., 20 CFR Part 10.

Purposes:

The purpose of this system is to permit the Bureau of Engraving and Printing to more effectively and efficiently process and manage claims, and to provide statistics and information to the Department of Labor Office of Workers' Compensation (DOL-OWCP). It also allows us to focus our resources in order to continually improve the safety of our workforce and work environment.

Routine uses of records maintained in the system, including categories of user and the purposes of such user:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2, which relate to an agency's functions relating to civil and criminal proceedings;

(7) Provide information to unions recognized as exclusive bargaining representatives under the Civil Service Reform Act of 1978, 5 U.S.C. 7111, 7114;

(8) Provide information to third parties during the course of an investigation to the extent necessary to obtain information pertinent to the investigation; and

(9) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name and date of injury.

Safeguards:

Records in this system are safeguarded in accordance with applicable rules and policies, including all applicable Treasury automated systems security and access policies. Strict controls have been imposed to minimize the risk of compromising the information that is being stored. Access to the electronic and paper records system is limited to those individuals from the Office of Human Resources who have a need to know the information for performance of their official duties and who have appropriate clearances or permissions.

Retention and disposal:

In accordance with the National Archives and Records Administration (NARA), General Records Schedule No. 1, records are destroyed three (3) years after cutoff on termination of compensations or when the deadline for filing has passed.

System manager(s) and address:

Chief, Office of Human Resources, Bureau of Engraving and Printing, Eastern Currency Facility, 14th & C Streets SW., Washington, DC 20228 and Human Resources Officer, Human Resources Management Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedure:

See “Notification Procedure” above.

Contesting record procedures:

See “Notification Procedure” above.

Record source categories:

Occupational health unit daily reports, medical providers, supervisors' reports, and employee-provided information.

Exemptions claimed for the system:

None.

TREASURY/BEP .006

System name:

Debt Files of Employees—Treasury/BEP.

System location:

Office of Human Resources and Office of the Chief Counsel, Bureau of Engraving and Printing, Eastern Currency Facility, 14th & C Streets SW., Washington, DC 20228 and Human Resources Management Division and Office of the Chief Counsel, Western Currency Facility, 9000 Blue Mound Road, Fort Worth, TX 76131.

Categories of individuals covered by the system:

Current and former employees of the Bureau of Engraving and Printing against whom garnishment proceedings or debt complaints have been filed.

Categories of records in the system:

May contain correspondence; complaint information, including counseling efforts and final disposition of complaints; court judgments; writs, orders, summons, or other legal process in the nature of garnishment; child support account numbers; names and addresses of current employers of former agency employees; and records on current or former employees to include name, Social Security number, address, phone number, position, wages, and employment benefits.

Authority for maintenance of the system:

5 U.S.C. 301, 5520a, 31 U.S.C. 321, 42 U.S.C. 659, 44 U.S.C. 3101, and Exec. Order No. 9397.

Purposes:

The purpose of this system is to maintain records about individuals who owe debt(s) to the United States of America, through one or more of its departments and agencies, and/or to individuals, including past due support enforced by states. The information contained in the records is maintained for the purpose of taking action to facilitate the collection and resolution of the debt(s) using various collection methods, including, but not limited to, offset, levy, and administrative wage garnishment.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a Federal, State, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2, which relate to an agency's functions relating to civil and criminal proceedings;

(7) Provide information to unions recognized as exclusive bargaining representatives under the Civil Service Reform Act of 1978, 5 U.S.C. 7111, 7114;

(8) Provide information to third parties during the course of an investigation to the extent necessary to obtain information pertinent to the investigation;

(9) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm;

(10) Disclose information to a court of competent jurisdiction, an authorized official or authorized state agency as defined in 5 CFR parts 581, 582, or a party to a garnishment action, in response to legal process, including interrogatories, served on the Bureau of Engraving and Printing in connection with garnishment proceedings against a current or former employee; and

(11) Provide information to private creditors for the purpose of garnishment of wages of an employee if a debt has been reduced to a judgment.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name.

Safeguards:

Records in this system are safeguarded in accordance with applicable rules and policies, including all applicable Treasury automated systems security and access policies. Strict controls have been imposed to minimize the risk of compromising the information that is being stored. Access to the electronic and paper record system is limited to those individuals in the Office of Human Resources and Office of the Chief Counsel who have a need to know the information for the performance of their official duties and who have appropriate clearances or permissions.

Retention and disposal:

In accordance with the National Archives and Records Administration (NARA), General Records Schedule No. 2, records are destroyed three (3) years after garnishment is terminated.

System manager(s) and address:

Chief, Office of Human Resources and Chief Counsel, Office of the Chief Counsel, Bureau of Engraving and Printing, Eastern Currency Facility, 14th & C Streets SW., Washington, DC 20228 and Human Resources Officer, Human Resources Management Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F, to Disclosure Officer, Bureau of Engraving and Printing, Eastern Currency Facility, 14th & C Streets SW., Washington, DC 20228.

Record access procedure:

See “Notification Procedure” above.

Contesting record procedures:

See “Notification Procedure” above.

Record source categories:

Employees, complainants, creditors, court judgments, garnishment orders, and personnel records.

Exemptions claimed for the system:

None.

TREASURY/BEP.014

System name:

Employee's Production Record—Treasury/BEP.

System location:

All Bureau of Engraving and Printing Organizational Components, Bureau of Engraving and Printing, Eastern Currency Facility, 14th & C Streets SW., Washington, DC 20228, and the Bureau of Engraving and Printing, Western Currency Facility, 9000 Blue Mound Road, Fort Worth, TX 76131.

Categories of individuals covered by the system:

All current employees of the Bureau of Engraving and Printing, Eastern and Western Currency Facilities.

Categories of records in the system:

• Employee's name;

• Dates;

• Work hours;

• Record of production;

• History of work assignments;

• Training;

• Work performance;

• Progress reports.

Authority for maintenance of the system:

5 U.S.C. 301, 4103, 4302.

Purposes:

The purpose of this system is to permit the Bureau of Engraving and Printing to maintain performance records used to support awards, promotions, performance-based actions, training, and other personnel actions, and to track and evaluate performance based upon the accomplishments of each employee.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2 which relate to an agency's functions relating to civil and criminal proceedings;

(6) Provide information to unions recognized as exclusive bargaining representatives under the Civil Service Reform Act of 1978, 5 U.S.C. 7111, 7114;

(7) Provide information to third parties during the course of an investigation to the extent necessary to obtain information pertinent to the investigation; and

(8) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name and work code number, and cross-referenced by project number.

Safeguards:

Records in this system are safeguarded in accordance with applicable rules and policies, including all applicable Treasury automated systems security and access policies. Strict controls have been imposed to minimize the risk of compromising the information that is being stored. Access to the electronic and paper records system is limited to those individuals who have a need to know the information for the performance of their official duties and who have appropriate clearances or permissions.

Retention and disposal:

Records are retained and disposed in accordance with the National Archives and Records Administration (NARA), General Records Schedule No. 1.

System manager(s) and address:

Bureau of Engraving and Printing, Eastern Currency Facility, 14th & C Streets SW., Washington, DC 20228: Director, Office of Director; Deputy Director, Office of Deputy Director; Chief Counsel, Office of the Chief Counsel; Chief, Office of External Affairs; Associate Director-Chief Financial Officer including: Chief-Office of Financial Management, Chief-Office of Acquisition, and Chief-Office of Compliance; Associate Director, Eastern Currency Facility including: Chief-Office of Engraving, Chief-Office of Security Printing, and Chief-Office of Operations Support; Associate Director, Product & Technology Development including: Deputy Associate Director-Product & Technology Development, Chief-Office of Product Development, Chief-Office of Materials Technology, Chief-Office of Engineering, and Chief-Central Bank Liaison Staff; Associate Director-Management including: Chief-Office of Security, Chief Office of Human Resources, Chief-Office of Facilities Support, Chief-Office of Environmental Health & Safety, and Chief-Office of Equal Opportunity & Diversity Management; Associate Director-Chief Information Officer including: Chief-Office of Critical Infrastructure & IT Security, Chief-Office of IT Operations, and Chief-Office of Enterprise Solutions; Associate Director- Corporate Planning & Strategic Analysis including: Chief-Office of Strategic Systems Management, Chief-Office of Quality, Chief-Office of Order Management & Delivery Systems, and Chief-Office of Portfolio & Project Management.

Bureau of Engraving and Printing, Western Currency Facility, 9000 Blue Mound Road, Fort Worth, TX 76131: Associate Director-Western Currency Facility including: Chief-Office of Currency Manufacturing, Chief, Office Operations Support Division, Security Officer-Security Division, and Human Resources Officer-Human Resources Management Division.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedure:

See “Notification procedure” above.

Contesting record procedures:

See “Notification procedure” above.

Record source categories:

Information furnished by employee, developed by supervisor, or by referral document.

Exemptions claimed for the system:

None.

TREASURY/BEP .016

System name:

Employee Suggestions—Treasury/BEP.

System location:

Office of Human Resources, Bureau of Engraving and Printing, Eastern Currency Facility, 14th & C Streets SW., Washington, DC 20228, and Human Resources Management Division, Bureau of Engraving and Printing, Western Currency Facility, 9000 Blue Mound Road, Fort Worth, TX 76131.

Categories of individuals covered by the system:

All Bureau of Engraving and Printing employees submitting suggestions under the incentive award program.

Categories of records in the system:

Contains employee's suggestion, reviewer evaluation, and final disposition information.

Authority for maintenance of the system:

5 U.S.C. 4502(c).

Purposes:

The purpose of this system is to permit the Bureau of Engraving and Printing to maintain records on the suggestions submitted by employees and used to support awards if the suggestions are adopted.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2, which relate to an agency's functions relating to civil and criminal proceedings;

(6) Provide information to unions recognized as exclusive bargaining representatives under the Civil Service Reform Act of 1978, 5 U.S.C. 7111, 7114;

(7) Provide information to third parties during the course of an investigation to the extent necessary to obtain information pertinent to the investigation; and

(8) Provide information to the appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name.

Safeguards:

Records in this system are safeguarded in accordance with applicable rules and policies, including all applicable Treasury automated systems security and access policies. Strict controls have been imposed to minimize the risk of compromising the information that is being stored. Access to the electronic and paper record system is limited to those individuals in the Office of Human Resources who have a need to know the information for the performance of their official duties and who have appropriate clearances or permissions.

Retention and disposal:

Records are retained and disposed in accordance with the National Archives and Records Administration (NARA), General Records Schedule No. 1.

System manager(s) and address:

Chief, Office of Human Resources, Bureau of Engraving and Printing, Eastern Currency Facility, 14th & C Streets SW., Washington, DC 20228 and Human Resources Officer-Human Resources Management Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedure:

See “Notification procedure” above.

Contesting record procedures:

See “Notification procedure” above.

Record source categories:

Individual employee, employee's supervisor, and review committee.

Exemptions claimed for the system:

None.

TREASURY/BEP .020

System name:

Industrial Truck Licensing Records—Treasury/BEP.

System location:

Office of Environment, Health, and Safety, Bureau of Engraving and Printing, Eastern Currency Facility, 14th & C Streets SW., Washington, DC 20228, and Office of Operations Support, Environment, Health & Safety Branch, Bureau of Engraving and Printing, Western Currency Facility, 9000 Blue Mound Road, Fort Worth, TX 76131.

Categories of individuals covered by the system:

Bureau of Engraving and Printing employees designated to operate self-propelled material and/or machinery handling equipment.

Categories of records in the system:

Record of employee physical examination, testing, license number and issue date for purposes of operating one or more types of material handling equipment used within the Bureau of Engraving and Printing.

Authority for maintenance of the system:

5 U.S.C. 301.

Purposes:

This system of records is used to document who is authorized to operate self-propelled material and/or machinery handling equipment. In addition, it keeps track of the expiration dates of the licenses.

Routine uses of records maintained in the system, including categories of users and the purposes of such uses:

These records may be disclosed to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name.

Safeguards:

Records in this system are safeguarded in accordance with applicable rules and policies, including all applicable Treasury automated systems security and access policies. Strict controls have been imposed to minimize the risk of compromising the information that is being stored. Access to the electronic and paper record system is limited to those individuals from the Office of Environment, Health, and Safety in the Eastern and Western Currency Facilities who have a need to know the information for the performance of their official duties and who have appropriate clearances or permissions.

Retention and disposal:

In accordance with the National Archives and Records Administration (NARA), General Records Schedule No. 10, records are destroyed three (3) years after separation of employee or three (3) years after rescission of authorization to operate Government-owned vehicle, whichever is sooner.

System manager(s) and address:

Chief, Office of Environment, Health, and Safety, Bureau of Engraving and Printing, Eastern Currency Facility, 14th & C Streets SW., Washington, DC 20228 and Chief, Office of Operations Support, Environment, Health & Safety Branch, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedure:

See “Notification procedure” above.

Contesting record procedures:

See “Notification procedure” above.

Record source categories:

Supervisor's request, results of physical examination, and data obtained during training or practical tests.

Exemptions claimed for the system:

None.

TREASURY/BEP .021

System name:

Investigative Files—Treasury/BEP.

System location:

Office of Security, Bureau of Engraving and Printing, Eastern Currency Facility, 14th & C Streets SW., Washington, DC 20228, and Security Division, Bureau of Engraving and Printing, Western Currency Facility, 9000 Blue Mound Road, Fort Worth, TX 76131.

Categories of individuals covered by the system:

Former and current BEP employees, contractors, and service company employees, applicants for employment, visitors to BEP, news-media correspondents, and employees or contractors of companies to which samples or test decks of Federal Reserve notes or other Government securities are supplied.

Categories of records in the system:

• Security files;

• Personnel clearance requests;

• Case files;

• Bank shortage letters;

• Contractor files;

• Currency discrepancy reports;

• Intelligence files;

• Stamp discrepancy reports;

• Case records;

• Correspondence from the public concerning security matters;

• Security Files Reference Record;

• Employee Indebtedness Record.

Type of Information:

• Passport numbers;

• Character references;

• Police force reports;

• Previous employment verification;

• Newspaper articles;

• Social Security numbers;

• Laboratory reports to include handwriting results and latent fingerprint examinations;

• Law enforcement criminal and subversive record checks;

• Court records;

• Security register;

• Residency information;

• Reports of shortages or thefts of Bureau products including subsequent investigations;

• Personnel records of various types;

• Fingerprint card, photograph;

• Names of individuals including those at contractor plants who worked on a shortage involving Bureau products;

• Credit checks;

• Background investigation reports conducted by Office of Personnel Management, Bureau of Engraving and Printing, the Internal Revenue Service, and other Federal Investigative Agencies

• Disciplinary action recommended and/or received;

• Military record forms and extracted information;

• List of Bureau employees granted security clearances;

• Processes served (e.g., summons, subpoenas, warrants);

• Personnel security case numbers, dates—case opened and closed, and recommendations;

• Certificate of Security Clearance;

• Reports of violations of Bureau regulations and procedures;

• Bureau visitor control documents;

• Correspondence relating to individuals;

• Claims of indebtedness from firms and collection agencies and other sources, and assorted documents, recorded audio or video testimony;

• Bureau investigation reports, information supplied by Law Enforcement agencies;

• Applicant interview record;

• Anonymous tips concerning Bureau employees;

• Official investigative statements;

• Names of those requesting security assistance and report of the assistance rendered;

• Other pertinent Governmental records;

• Education records and information;

• Date of birth and physical description of individual in the files.

Authority for maintenance of the system:

31 U.S.C. 321, Exec. Order No. 10,450, and implementing Treasury and Bureau Regulations.

Purposes:

This system is to permit the Bureau of Engraving and Printing to collect and maintain background investigation records on applicants for employment, current Bureau employees, and contractors for issuance of security clearances; visitors seeking access to Bureau facilities; and those to whom samples or test decks of Federal Reserve notes or other Government securities are supplied. Information is also collected as part of investigations conducted by the Bureau's Office of Security.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2, which relate to an agency's functions relating to civil and criminal proceedings;

(7) Provide information to unions recognized as exclusive bargaining representatives under the Civil Service Reform Act of 1978, 5 U.S.C. 7111, 7114;

(8) Provide information to third parties during the course of an investigation to the extent necessary to obtain information pertinent to the investigation; and

(9) Provide to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved alphabetically by name and company name, and numerically by case number, passport number, Social Security number, and year.

Safeguards:

Records in this system are safeguarded in accordance with applicable rules and policies, including all applicable Treasury automated systems security and access policies. Strict controls have been imposed to minimize the risk of compromising the information that is being stored. Access to the electronic and paper records system is limited to those individuals in the Office of Security in the Eastern and Western Currency Facilities who have a need to know the information for the performance of their official duties and who have appropriate clearances or permissions.

Retention and disposal:

Records are retained and disposed in accordance with the National Archives and Records Administration (NARA), General Records Schedule No. 18.

System manager(s) and address:

Chief, Office of Security, Bureau of Engraving and Printing, Eastern Currency Facility, 14th & C Streets, SW., Washington, DC 20228 and Security Officer, Security Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedure:

See “Notification procedure” above.

Contesting record procedures:

See “Notification procedure” above.

Record source categories:

The sources of the information are the individual concerned and information supplied by federal, state, and local investigative agencies, credit bureaus, financial institutions, court records, educational institutions, and individuals contacted concerning the person being investigated.

Exemptions claimed for the system:

This system is exempt from 5 U.S.C. 552a(c)(3), (d), (e)(1), (e)(4)(G), (e)(4)(H), (e)(4)(I), and (f) of the Privacy Act pursuant to 5 U.S.C. 552a(k)(2) and 31 CFR 1.36.

TREASURY/BEP .027

System name:

Access Control and Alarm Monitoring Systems (ACAMS)—Treasury/BEP.

System location:

Office of Security, Bureau of Engraving and Printing, Eastern Currency Facility, 14th & C Streets SW., Washington, DC 20228, and Security Division, Bureau of Engraving and Printing, Western Currency Facility, 9000 Blue Mound Road, Fort Worth, TX 76131.

Categories of individuals covered by the system:

Employees of the Bureau of Engraving and Printing; employees of other U.S. Government agencies, contractors, and service company employees who have been cleared for access to the Bureau of Engraving and Printing and issued BEP Access Badges; and escorted visitors (i.e., contractors and service company employees who have not undergone the formal clearance to enter the Bureau of Engraving and Printing).

Categories of records in the system:

(A) The following information is maintained concerning all individuals who are issued BEP access badges with photographs: photograph; full name; Social Security number; date of birth; badge number; supervisory status; work telephone; work area number; BEP access clearance level; date BEP access level granted; date last security background investigation was completed; BEP access level; BEP access time zone; date access badge issued; date access badge voided; and time, date, and location of each passage through a security control point, (B) In the case of BEP employees and contractors issued “Temporary Access” badges and contractors and others issued “No Escort” badges, in lieu of his/her BEP access badge with photograph, the same information as in paragraph A (above) is kept, and (C) BEP ACAMS maintains the following information on official visitors, contractors, and others issued “Escort Visitor” badges: photograph; full name; date of birth; home address; driver's license number; passport number and date of issue; and date, time, and location of each passage through a security control point; and any additional data contained on an identification card presented when seeking an Escort Visitor badge.

Authority for maintenance of the system:

31 U.S.C. 321, 5 U.S.C. 301, 6106.

Purposes:

The purpose of this system is to maintain a record of those persons who entered the Bureau of Engraving and Printing premises and the time and areas visited for internal security use. This system of records is used to assist in maintaining the security of the Bureau premises and to permit the identification of individuals on the premises at particular times.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Disclose information to foreign governments in accordance with formal or informal international agreements;

(5) Provide information to a congressional office in response to an inquiry made at the request of the individual to whom the record pertains;

(6) Provide information to the news media in accordance with guidelines contained in 28 CFR 50.2, which relate to an agency's functions relating to civil and criminal proceedings;

(7) Provide information to unions recognized as exclusive bargaining representatives under the Civil Service Reform Act of 1978, 5 U.S.C. 7111, 7114;

(8) Provide information to third parties during the course of an investigation to the extent necessary to obtain information pertinent to the investigation; and

(9) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored on computer printouts, magnetic discs, tapes, or electronic media.

Retrievability:

Records may be retrieved numerically by PASS/badge number, alphabetically by last name, and appropriate index by subject.

Safeguards:

Records in this system are safeguarded in accordance with applicable rules and policies, including all applicable Treasury automated systems security and access policies. Strict controls have been imposed to minimize the risk of compromising the information that is being stored. Access is limited to the Office of Security, Eastern Currency Facility and Security Division, Western Currency Facility. On-line terminals are installed in a locked 24-hour manned Central Police Operations Center and the Security Systems Operations Center (SSOC) at the Eastern Currency Facility. These terminals are on lines that can be manually activated and deactivated in the Security Systems Operations Center (SSOC).

Retention and disposal:

Records are retained and disposed of in accordance with BEP Records Retention and Disposal Schedule No. 8 (N1/318/04/8) as required by the National Archives and Records Administration (NARA). For official visitors, contractors, and others issued “Escort Visitor” badges, information other than name and photograph scanned from identification cards is disposed of immediately upon collection.

System manager(s) and address:

Chief, Office of Security, Bureau of Engraving and Printing, Eastern Currency Facility, 14th & C Streets SW., Washington, DC 20228 and Security Officer, Security Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Eastern Currency Facility, Bureau of Engraving and Printing, 14th & C Streets SW., Washington, DC 20228.

Record access procedure:

See “Notification procedure” above.

Contesting record procedures:

See “Notification procedure” above.

Record source categories:

The individual concerned, his/her supervisor, or an official of the individual's firm or agency.

Exemptions claimed for the system:

None.

TREASURY/BEP .035

System name:

Tort Claims against the United States of America—Treasury/BEP.

System location:

Office of the Chief Counsel, Bureau of Engraving and Printing, Eastern Currency Facility, 14th & C Streets SW., Washington, DC 20228, and Office of the Chief Counsel, Bureau of Engraving and Printing, Western Currency Facility, 9000 Blue Mound Road, Fort Worth, TX 76131.

Categories of individuals covered by the system:

Individuals and/or organizations making claim for money damage against the United States of America for injury to or loss of property or personal injury or death caused by neglect, wrongful act, or omission of a Bureau of Engraving and Printing employee while acting within the scope of his office or employment.

Categories of records in the system:

Contains investigative and adjudication documents relative to personal injury and/or property damage claims.

Authority for maintenance of the system:

Federal Tort Claims Act, 28 U.S.C. 2672.

Purposes:

This system of records is used by the Bureau of Engraving and Printing to track the claims submitted, including their progress, adjudication, and final disposition.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to unions recognized as exclusive bargaining representatives under the Civil Service Reform Act of 1978, 5 U.S.C. 7111, 7114;

(6) Provide information to third parties during the course of an investigation to the extent necessary to obtain information pertinent to the investigation; and

(7) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name.

Safeguards:

Records in this system are safeguarded in accordance with applicable rules and policies, including all applicable Treasury automated systems security and access policies. Strict controls have been imposed to minimize the risk of compromising the information that is being stored. Access to the electronic and paper record system is limited to those individuals in the Office of the Chief Counsel who have a need to know the information for the performance of their official duties and who have appropriate clearances or permissions.

Retention and disposal:

Records are to be retained and disposed in accordance with BEP Records Retention and Disposal Schedule No. 3 (N1/318/04/3) as required by the National Archives and Records Administration (NARA).

System manager(s) and address:

Chief, Office of the Chief Counsel, Bureau of Engraving and Printing, Eastern Currency Facility, 14th & C Streets SW., Washington, DC 20228 and Office of the Chief Counsel, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th & C Streets SW., Washington, DC 20228.

Record access procedure:

See “Notification procedure” above.

Contesting record procedures:

See “Notification procedure” above.

Record source categories:

Individual or organization's claim and/or investigative reports.

Exemptions claimed for the system:

None.

TREASURY/BEP .038

System name:

Unscheduled Absence Record—Treasury/BEP.

System location:

Office of Human Resources, Bureau of Engraving and Printing, Eastern Currency Facility, 14th & C Streets SW., Washington, DC 20228, and Human Resources Management Division, Bureau of Engraving and Printing, Western Currency Facility, 9000 Blue Mound Road, Fort Worth, TX 76131.

Categories of individuals covered by the system:

Employees of the Bureau of Engraving and Printing who have had unscheduled absences.

Categories of records in the system:

Record contains chronological documentation of unscheduled absences.

Authority for maintenance of the system:

5 U.S.C. 301.

Purposes:

To provide a history and a record of the employee's unscheduled absences.

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to unions recognized as exclusive bargaining representatives under the Civil Service Reform Act of 1978, 5 U.S.C. 7111, 7114;

(6) Provide information to third parties during the course of an investigation to the extent necessary to obtain information pertinent to the investigation; and

(7) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name.

Safeguards:

Records in this system are safeguarded in accordance with applicable rules and policies, including all applicable Treasury automated systems security and access policies. Strict controls have been imposed to minimize the risk of compromising the information that is being stored. Access to the electronic and paper record system is limited to the supervisor's employee and authorized timekeeping personnel who have a need to know the information for the performance of their official duties and who have appropriate clearances or permissions.

Retention and disposal:

Records are retained and disposed in accordance with the National Archives and Records Administration (NARA), General Records Schedule No. 2.

System manager(s) and address:

Chief, Office of Human Resources, Bureau of Engraving and Printing, 14th & C Streets SW., Washington, DC 20228 and Human Resources Officer, Human Resources Management Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedure:

See “Notification procedure” above.

Contesting record procedures:

See “Notification procedure” above.

Record source categories:

Individual employee's time and attendance records and his/her supervisor.

Exemptions claimed for the system:

None.

TREASURY/BEP .041

System name:

Record of Discrimination Complaints—Treasury/BEP.

System location:

Office of Equal Opportunity and Diversity Management, Bureau of Engraving and Printing, Eastern Currency Facility, 14th & C Streets SW., Washington, DC 20228 and Bureau of Engraving and Printing, Western Currency Facility, 9000 Blue Mound Road, Fort Worth, TX 76131.

Categories of individuals covered by the system:

Employees of the Bureau of Engraving and Printing who have initiated discrimination complaints.

Categories of records in the system:

Data developed as a result of inquiry by the person making the allegation of discrimination.

Authority for maintenance of the system:

Exec. Order No. 11,478.

Purposes:

To provide a history and record of the employee counseling session. Documentation of all statements made will be kept for use in the resolution of the case and forwarded, if need be, to the Equal Employment Opportunity Commission (EEOC).

Routine uses of records maintained in the system, including categories of users and the purposes of such uses:

These records may be used to:

(1) Disclose to EEOC to adjudicate discrimination complaints;

(2) Disclose pertinent information to appropriate federal, state, local, or foreign agencies responsible for investigating or prosecuting the violations of, or for enforcing or implementing, a statute, rule, regulation, order, or license, where the disclosing agency becomes aware of an indication of a violation or potential violation of civil or criminal law or regulation;

(3) Disclose information to a federal, state, or local agency maintaining civil, criminal, or other relevant enforcement information or other pertinent information, which has requested information relevant to or necessary to the requesting agency's or the bureau's hiring or retention of an individual, or issuance of a security clearance, license, contract, grant, or other benefit;

(4) Disclose information to a court, magistrate, or administrative tribunal in the course of presenting evidence, including disclosures to opposing counsel or witnesses in the course of civil discovery, litigation, or settlement negotiations, in response to a subpoena, or in connection with criminal law proceedings;

(5) Provide information to a congressional office in response to an inquiry made at the request of the individual to whom the record pertains;

(6) Provide information to unions recognized as exclusive bargaining representatives under the Civil Service Reform Act of 1978, 5 U.S.C. 7111, 7114;

(7) Provide information to third parties during the course of an investigation to the extent necessary to obtain information pertinent to the investigation; and

(8) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name and case number.

Safeguards:

Records in this system are safeguarded in accordance with applicable rules and policies, including all applicable Treasury automated systems security and access policies. Strict controls have been imposed to minimize the risk of compromising the information that is being stored. Access to the electronic and paper record system is limited to complainants and individuals from the Office of Equal Opportunity and Diversity Management who have a need to know the information for the performance of their official duties and who have appropriate clearances or permissions.

Retention and disposal:

Records are retained and disposed in accordance with the National Archives and Records Administration (NARA), General Records Schedule No. 1.

System manager(s) and address:

Chief, Office of Equal Opportunity and Diversity Management, Bureau of Engraving and Printing, Eastern Currency Facility, 14th & C Streets SW., Washington, DC 20228 and Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F, to Disclosure Officer, Bureau of Engraving and Printing, Eastern Currency Facility, 14th & C Streets SW., Washington, DC 20228.

Record access procedure:

See “Notification procedure” above.

Contesting record procedures:

See “Notification procedure” above.

Record source categories:

Individual employees who have discrimination complaints.

Exemptions claimed for the system:

None.

TREASURY/BEP .045

System name:

Mail Order Sales Customer Files—Treasury/BEP

System location:

Office of External Relations, Bureau of Engraving and Printing, Eastern Currency Facility, 14th & C Streets SW., Washington, DC 20228 and External Affairs Division, Bureau of Engraving and Printing, Western Currency Facility, 9000 Blue Mound Road, Fort Worth, TX 76131.

Categories of individuals covered by the system:

Customers ordering engraved prints and numismatic products from the Bureau of Engraving and Printing through the mail, and those individuals who have requested that their names be placed on the BEP mailing list.

Categories of records in the system:

Mail order customers' names; addresses; company names; credit card numbers and expiration dates; history of customer sales; and inventory data.

Authority for maintenance of the system:

5 U.S.C. 301.

Purposes:

The purpose of this system is to permit the Bureau of Engraving and Printing to maintain a mailing list of customers and interested parties to provide continuous communication and/or promotional materials about existing and upcoming product offerings; to record and maintain records of customer, interested party, and order information and requests for promotional materials; and to capture orders through each stage of the order life cycle, research and resolve orders that were not successfully delivered to customers and interested parties, and maintain a list of its products and to monitor and maintain product and promotional material inventory levels to meet customer and interested party demand.

Routine uses of records maintained in the system including categories of users and the purposes of such uses:

(1) To electronically transmit credit card information to obtain approval or disapproval from the issuing financial institution. Categories of users include personnel involved in credit card approval; and

(2) To inform appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

(3) To disclose to consumer reporting agencies any debt information concerning a Government claim against an individual in accordance with 5 U.S.C. 552a(b)(12) and Section 3 of the Debt Collection Act of 1982 (Pub. L. 97-365), to encourage repayment of an overdue debt.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by customer name, order number, or customer number.

Safeguards:

Records in this system are safeguarded in accordance with applicable rules and policies, including all applicable Treasury automated systems security and access policies. Strict controls have been imposed to minimize the risk of compromising the information that is being stored. Access to the electronic and paper record system is limited to those individuals in the Office of External Relations who have a need to know the information for the performance of their official duties and who have appropriate clearances or permissions.

Retention and disposal:

Records are retained and disposed in accordance with BEP Records Retention and Disposal Schedule No. 21 (N1/318/04/21) approved by the National Archives and Records Administration (NARA).

System manager(s) and address:

Manager, Office of External Relations, Marketing Division, Bureau of Engraving and Printing, 14th & C Streets SW., Washington, DC 20228 and Manager, WCF External Affairs Division, Bureau of Engraving and Printing, Western Currency Facility, 9000 Blue Mound Road, Fort Worth, TX 76131.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility. 14th & C Streets SW., Washington, DC 20228.

Records access procedures:

See “Notification procedure” above.

Contesting records procedures:

See “Notification procedure” above.

Record source categories:

Customers, BEP employees, financial institutions.

Exemptions claimed for the system:

None.

TREASURY/BEP .046

System name:

Automated Mutilated Currency Tracking System—Treasury/BEP.

System location:

Office of Financial Management, Bureau of Engraving and Printing, Eastern Currency Facility, 14th & C Streets SW., Washington, DC 20228.

Categories of individuals covered by the system:

Individuals and financial institutions submitting mutilated paper currency claims.

Categories of records in the system:

Mutilated currency claimants' names, addresses, company names, amounts of claims, amounts paid, and types and conditions of currency.

Authority for maintenance of the system:

5 U.S.C. 301, 12 U.S.C. 413, 31 U.S.C. 321.

Purposes:

The purpose of this system is to maintain historical information and to respond to claimants' inquiries (e.g., non-receipt of reimbursement, status of case).

Routine uses of records maintained in the system, including categories of users and the purposes of such uses:

These records may be used to:

(1) Disclose pertinent information to appropriate federal, state, local, or foreign agencies responsible for investigating or prosecuting the violations of, or for enforcing or implementing, a statute, rule, regulation, order, or license, where the disclosing agency becomes aware of an indication of a violation or potential violation of civil or criminal law or regulation;

(2) Disclose information to a federal, state, or local agency, maintaining civil, criminal, or other relevant enforcement information or other pertinent information, which has requested information relevant to or necessary to the requesting agency's or the bureau's hiring or retention of an individual, or issuance of a security clearance, license, contract, grant, or other benefit;

(3) Disclose information to a court, magistrate, or administrative tribunal in the course of presenting evidence, including disclosures to opposing counsel or witnesses in the course of civil discovery, litigation, or settlement negotiations, in response to a subpoena, or in connection with criminal law proceedings;

(4) Provide information to a congressional office in response to an inquiry made at the request of the individual to whom the record pertains;

(5) Provide information to the news media in accordance with guidelines contained in 28 CFR 50.2, which relate to an agency's functions relating to civil and criminal proceedings;

(6) Provide information to unions recognized as exclusive bargaining representatives under the Civil Service Reform Act of 1978, 5 U.S.C. 7111, 7114;

(7) Provide information to third parties during the course of an investigation to the extent necessary to obtain information pertinent to the investigation; and

(8) Provide information to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by claimant name, case number, address, or registered mail number.

Safeguards:

Records in this system are safeguarded in accordance with applicable rules and policies, including all applicable Treasury automated systems security and access policies. Strict controls have been imposed to minimize the risk of compromising the information that is being stored. Access to the electronic and paper record system is limited to those individuals in the Office of Financial Management who have a need to know the information for the performance of their official duties and who have appropriate clearances or permissions.

Retention and disposal:

Records are retained and disposed in accordance with BEP Records Retention and Disposal Schedule No. 10 (N1/318/04/10) approved by the National Archives and Records Administration (NARA).

System manager(s) and address:

Chief, Office of Financial Management, Bureau of Engraving and Printing, 14th & C Streets SW., Washington, DC 20228.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, 14th & C Streets SW., Washington, DC 20228.

Record access procedure:

See “Notification procedure” above.

Contesting record procedures:

See “Notification procedure” above.

Record source categories:

Individuals, banking institutions, and BEP employees.

Exemptions claimed for the system:

None.

TREASURY/BEP .047

System name:

Employee Emergency Notification System—Treasury/BEP.

System location:

Bureau of Engraving and Printing, Eastern Currency Facility, 14th & C Streets SW., Washington, DC 20228, and Bureau of Engraving and Printing, Western Currency Facility, 9000 Blue Mound Road, Fort Worth, TX 76131.

Categories of individuals covered by the system:

Employees of the Bureau of Engraving and Printing who have voluntarily provided personal information.

Categories of records in the system:

The types of personal information collected by this system are necessary to ensure the timely emergency notification to individuals that employees have identified. The types of personal information presently include or potentially could include the following:

(a) Personal identifiers (name; home, work, and email addresses; telephone, fax, and pager numbers);

(b) Emergency notification contact (name of person to be notified; address; telephone number).

Authority for maintenance of the system:

44 U.S.C. 3101, 5 U.S.C. 301.

Purposes:

The purpose of this system of records is to provide emergency notification to those person(s) employees have voluntarily designated to receive such information.

Routine uses of records maintained in the system, including categories of users and the purposes of such uses:

These records may be disclosed to appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders and on electronic media.

Retrievability:

Records may be retrieved by name or other unique identifier.

Safeguards:

Records in this system are safeguarded in accordance with applicable rules and policies, including all applicable Treasury automated systems security and access policies. Strict controls have been imposed to minimize the risk of compromising the information that is being stored. Access to the electronic and paper record system is limited to those individuals who have a need to know the information for the performance of their official duties and who have appropriate clearances or permissions.

Retention and disposal:

In accordance with the National Archives and Records Administration (NARA), General Records Schedule No. 1-Item 18 (a), records are reviewed and destroyed annually when the records are superseded or obsolete. The file relating to a former employee is destroyed within one (1) year after separation or transfer.

System manager(s) and address:

Bureau of Engraving and Printing, Eastern Currency Facility, 14th & C Streets SW., Washington, DC 20228: Director, Office of Director; Deputy Director, Office of Deputy Director; Chief Counsel, Office of the Chief Counsel; Chief, Office of External Affairs; Associate Director-Chief Financial Officer including: Chief-Office of Financial Management, Chief-Office of Acquisition, and Chief-Office of Compliance; Associate Director, Eastern Currency Facility including: Chief-Office of Engraving, Chief-Office of Security Printing, and Chief-Office of Operations Support; Associate Director, Product & Technology Development including: Deputy Associate Director-Product & Technology Development, Chief-Office of Product Development, Chief-Office of Materials Technology, Chief-Office of Engineering, and Chief-Central Bank Liaison Staff; Associate Director-Management including: Chief-Office of Security, Chief Office of Human Resources, Chief-Office of Facilities Support, Chief-Office of Environmental Health & Safety, and Chief-Office of Equal Opportunity & Diversity Management; Associate Director-Chief Information Officer including: Chief-Office of Critical Infrastructure & IT Security, Chief-Office of IT Operations, and Chief-Office of Enterprise Solutions; Associate Director-Corporate Planning & Strategic Analysis including: Chief-Office of Strategic Systems Management, Chief-Office of Quality, Chief-Office of Order Management & Delivery Systems, and Chief-Office of Portfolio & Project Management.

Bureau of Engraving and Printing, Western Currency Facility, 9000 Blue Mound Road, Fort Worth, TX 76131: Associate Director-Western Currency Facility including: Chief-Office of Currency Manufacturing, Chief, Office Operations Support Division, Security Officer-Security Division, and Human Resources Officer-Human Resources Management Division.

Notification procedure:

Individuals wishing to be notified if they are named in this system of records, gain access to the records, or contest the contents of any records maintained in this system may submit inquiries in accordance with instructions appearing in 31 CFR part 1, subpart C, appendix F. Address inquiries to Disclosure Officer, Bureau of Engraving and Printing, Eastern Currency Facility, 14th & C Streets SW., Washington, DC 20228.

Record access procedures:

See “Notification procedure” above.

Record source categories:

BEP Employees.

Contesting record procedures:

See “Notification procedure” above.

Exemptions claimed for the system:

None.

Treasury/BEP .048

System name:

Electronic Police Operations Command Reporting System (EPOCRS)—Treasury/BEP.

System location:

Office of Security, Bureau of Engraving and Printing, Eastern Currency Facility, 14th & C Streets SW., Washington, DC 20228, and Security Division, Bureau of Engraving and Printing, Western Currency Facility, 9000 Blue Mound Road, Fort Worth, TX 76131.

Categories of individuals covered by the system:

Employees of the Eastern and Western Currency Facilities of the Bureau of Engraving and Printing, employees of other U.S. government agencies, contractors, service company employees, and visitors who have provided information to BEP police officers relating to an incident or accident at a BEP facility.

Categories of records in the system:

The information maintained in this system includes electronic and paper records of criminal/administrative incidents and/or general complaints/concerns reported to the BEP Police Services Division that require investigation, response, and reporting for purposes of administrative processing activity at the Bureau. Information that will be collected and maintained includes personal information such as names, addresses, telephone numbers, dates of birth, property information (such as vehicular brand, model, or other identifying data), notification information, narratives, voluntary statements, images, witnesses, and locations of the incidents).

Authority for maintenance of the system:

5 U.S.C. 301, 552(a)b, 31 U.S.C. 321, 40 U.S.C. 1315(b)(2)(a-c).

Purposes:

The purpose of the system is to establish a database for records regarding investigation activity that directly or indirectly impacts BEP persons and property. Records are of an administrative and/or investigative nature involving the BEP.

Routine uses of records maintained in the system, including categories of users and the purposes for such uses:

These records may be used to disclose information to:

(1) Appropriate federal, state, and local agencies responsible for investigating or prosecuting the violation of, or for enforcing or implementing, a statute, rule, regulation, order, or license, where the disclosing agency becomes aware of a potential violation of civil or criminal law or regulation;

(2) A court, magistrate, or administrative tribunal, in the course of presenting evidence, including disclosures to opposing counsel or witnesses, for the purpose of civil discovery, litigation, or settlement negotiations or in response to a court order, where relevant or potentially relevant to a proceeding, or in connection with criminal law proceedings;

(3) A congressional office in response to an inquiry made at the request of the individual to whom the record pertains;

(4) Representatives of the National Archives and Records Administration (NARA) who are conducting records management inspections under authority of 44 U.S.C. 2904, 2906;

(5) The U.S. Department of Justice (“DOJ”) for its use in providing legal advice to the Department or in representing the Department in a proceeding before a court, adjudicative body, or other administrative body before which the Department is authorized to appear, where the Department deems DOJ's use of such information relevant and necessary to the litigation, and such proceeding names as a party or interests:

(a) The Department or any component of it;

(b) Any employee of the Department in his or her official capacity;

(c) Any employee of the Department in his or her individual capacity where DOJ has agreed to represent the employee; or

(d) The United States, where the Department determines that litigation is likely to affect the Department or any of its components; and

(6) Appropriate agencies, entities, and persons when (a) the Department suspects or has confirmed that the security or confidentiality of information in the system of records has been compromised; (b) the Department has determined that as a result of the suspected or confirmed compromise there is a risk of harm to economic or property interests, identity theft or fraud, or harm to the security or integrity of this system or other systems or programs (whether maintained by the Department or another agency or entity) that rely upon the compromised information; and (c) the disclosure made to such agencies, entities, and persons is reasonably necessary to assist in connection with the Department's efforts to respond to the suspected or confirmed compromise and prevent, minimize, or remedy such harm.

Policies and practices for storing, retrieving, accessing, retaining, and disposing of records in the system:

Storage:

Records in this system are stored electronically or on paper in secure facilities in a locked drawer behind a locked door. The records are stored in file folders or on magnetic discs, tapes, or electronic media.

Retrievability:

Records may be retrieved by name of the individual(s) involved in the incident, date(s) of the incident, and by system generated report numbers.

Safeguards:

Records in this system are safeguarded in accordance with applicable rules and policies, including all applicable Treasury automated systems security and access policies. Strict controls have been imposed to minimize the risk of compromising the information that is being stored. Access to the electronic and paper records system is limited to those individuals in the Office of Security, Office of Compliance and Office of Critical Infrastructure & IT Security of the Eastern Currency Facility and Security Division of the Western Currency Facility who have a need to know the information for the performance of their official duties and who have appropriate clearances or permissions.

Retention and disposal:

Records are retained and disposed in accordance with BEP Records Retention and Disposal Schedule No. 8 (N1/318/04/8) approved by the National Archives and Records Administration (NARA).

System manager(s) and address:

Chief, Office of Security, Eastern Currency Facility, Bureau of Engraving and Printing, 14th & C Streets SW., Washington, DC 20228 and Security Officer, Security Division, Bureau of Engraving and Printing, Western Currency Facility, 9000 Blue Mound Road, Fort Worth, TX 76131.

Notification procedure:

Individuals wishing to be notified if they are named in this system of records, gain access to the records, or contest the contents of any records maintained in this system may submit written inquiries in accordance with instructions appearing in 31 CFR part 1, subpart C, appendix F. to the Disclosure Officer, Bureau of Engraving and Printing, 14th & C Streets SW., Washington, DC 20228.

Record access:

See “Notification procedure.”

Contesting record procedure:

See “Notification procedure.”

Record source categories:

(1) BEP employees, (2) individuals directly or indirectly involved in an incident, (3) authorized officials or legal representatives of such individuals, or (4) legal representatives of firms, companies, or agencies directly or indirectly involved in an incident.

Exemptions claimed for the system:

None.

[FR Doc. 2013-08849 Filed 4-15-13; 8:45 am]

BILLING CODE 4810-39-P